DEPARTMENT OF TRANSPORTATION

Federal Aviation Administration

14 CFR Part 73

[Docket No. FAA-2023-1802; Airspace Docket No. 23-ASW-13]

RIN 2120-AA66

Renaming of Restricted Areas R-6302A, R-6302B, R-6302C, R-6302D, and R-6302E, and Updating the Using Agency, U.S. Army, Commanding General, III Armored Corps and Fort Cavazos, Fort Cavazos, TX

AGENCY: Federal Aviation Administration (FAA), DOT.

ACTION: Final rule.

SUMMARY: This action is an administrative change to rename the location of restricted areas R-6302A, R-6302B, R-6302C, R-6302D, and R-6302E and to update the name of the listed using agency for those restricted areas. This action partially implements recommendations of the Commission on the Naming of Items (Naming Commission) of the Department of Defense (DoD) as established by section 370 of the Fiscal Year (FY) 2021 National Defense Authorization Act (NDAA). Additionally, this action makes minor editorial corrections to the designated altitudes contained in three of the restricted areas and to the geographic coordinates of one boundary point in one of the restricted areas. These amendments do not affect the overall restricted area complex boundaries, operational altitudes, times of designation, or activities conducted within the airspace.

DATES: Effective 0901 UTC, November 30, 2023.

ADDRESSES: A copy of this final rule, and all background material may be viewed online at www.regulations.gov using the FAA Docket number. Electronic retrieval help and guidelines are available on the website. It is available 24 hours each day, 365 days each year.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the airspace descriptions of restricted areas R-6302A, R-6302B, R-6302C, R-6302D, and R-6302E and the name of their using agency.

Background

The FY 2021 NDAA directed the DoD to establish a commission relating to assigning, modifying, or removing of names, symbols, displays, monuments, and paraphernalia to assets of the DoD that commemorate the Confederate States of America or any person who served voluntarily with the Confederate States of America.¹ In January 2023, the Secretary of Defense directed all DoD organizations to begin full implementation of the Naming Commission's recommendations. As approved by the Secretary of Defense, the name “Fort Hood, TX” is changed to “Fort Cavazos, TX”. Consequently, this rulemaking action implements the requisite changes to part 73 by updating the airspace description titles and using agencies of restricted areas R-6302A, R-6302B, R-6302C, R-6302D, and R-6302E to reflect the new name.

¹ Public Law 116-283, 134 Stat. 3388, Jan. 1, 2021.

Additionally, in reviewing the Fort Hood restricted areas complex, the FAA identified restricted area R-6302A and the overlapping R-6302E contained the same 30,000 feet mean sea level (MSL) altitude in both designated altitudes descriptions. To correct this altitude overlap while both restricted areas are active, the designated altitude information for R-6302A is being changed from extending upward from the surface to 30,000 feet MSL to extending upward from the surface to, but not including 30,000 feet MSL. That will overcome the designated altitudes overlap issue without impacting the operations conducted within the restricted areas when they are active individually or collectively. Further, to keep the designated altitudes ceilings for two adjacent restricted areas (R-6302C and R-6302D) to R-6302A consistent with the changed R-6302A ceiling, the designated altitudes for R-6302C and R-6302D are also being changed to reflect extending upward from the surface to, but not including 30,000 feet MSL.

Lastly, in the FAA's review of the R-6302 restricted areas complex, a typographical error was identified for the seventh boundary point listed in the R-6302E description. When R-6302E was established (59 FR 43460; Aug. 24, 1994), that boundary point was listed as latitude 31°09′01″ N, longitude 97°43′31″ W. In 1999, the FAA published a rule amending R-6302E (64 FR 3623; Jan. 25, 1999) to modify the western boundary of the restricted area to no longer extend over R-6302C and R-6302D. Inadvertently, a typographical error was made to the seventh boundary point geographic coordinates on the eastern boundary of the R-6302E description that changed the latitude 31°09′01″ N, longitude 97°43′31″ W coordinates to latitude 31°09′01″ N, longitude 97°43′01″ W. This action corrects that typographic error to reflect the seventh boundary point listed in the R-6302E description as “lat. 31°09′01″ N, long. 97°43′31″ W”.

The Rule

This action amends 14 CFR part 73 by updating the airspace titles and using agency information for restricted areas R-6302A, R-6302B, R-6302C, R-6302D, and R-6302E by removing the name “Fort Hood, TX” and replacing it with “Fort Cavazos, TX”. Additionally, this action changes the designated altitudes for R-6302A, R-6302C, and R-6302D from “Surface to 30,000 feet MSL” to “Surface to, but not including 30,000 feet MSL”. Lastly, this action corrects the seventh boundary point listed for R-6302E from “lat. 31°09′01″ N, long. 97°43′01″ W” to “lat. 31°09′01″ N, long. 97°43′31″ W”.

This action consists of administrative name changes and minor editorial corrections only and does not affect the restricted area complex boundaries, operational altitudes, times of designation, or activities conducted within the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes to the geographic locations of restricted areas R-6302A, R-6302B, R-6302C, R-6302D, and R-6302E, which do not alter the boundaries, altitudes, or time of designation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5d, which categorically excludes from further environmental impact review modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p. 389.

§ 73.63 Texas (TX) [Amended]

2. Section 73.63 is amended as follows:

R-6302A Fort Hood, TX [Removed]

R-6302B Fort Hood, TX [Removed]

R-6302C Fort Hood, TX [Removed]

R-6302D Fort Hood, TX [Removed]

R-6302E Fort Hood, TX [Removed]

R-6302A Fort Cavazos, TX [New]

Boundaries. Beginning at lat. 31°09′01″ N, long. 97°45′01″ W; to lat. 31°10′01″ N, long. 97°48′01″ W; to lat. 31°14′15″ N, long. 97°50′33″ W; to lat. 31°18′25″ N, long. 97°48′48″ W; to lat. 31°18′23″ N, long. 97°45′43″ W; to lat. 31°20′00″ N, long. 97°45′23″ W; to lat. 31°22′09″ N, long. 97°43′27″ W; to lat. 31°22′08″ N, long. 97°41′56″ W; to lat. 31°21′01″ N, long. 97°41′01″ W; to lat. 31°20′01″ N, long. 97°41′01″ W; to lat. 31°14′01″ N, long. 97°33′01″ W; to lat. 31°08′01″ N, long. 97°37′01″ W; to lat. 31°08′01″ N, long. 97°39′01″ W; to lat. 31°10′01″ N, long. 97°41′01″ W; to lat. 31°09′01″ N, long. 97°43′31″ W; to the point of beginning.

Designated altitudes. Surface to, but not including 30,000 feet MSL.

Time of designation. Continuous.

Controlling agency. FAA, Houston ARTCC.

Using agency. U.S. Army, Commanding General, III Armored Corps and Fort Cavazos, Fort Cavazos, TX.

R-6302B Fort Cavazos, TX [New]

Boundaries. Beginning at lat. 31°14′01″ N, long. 97°33′01″ W; to lat. 31°06′01″ N, long. 97°33′01″ W; to lat. 31°08′01″ N, long. 97°39′01″ W; to lat. 31°08′01″ N, long. 97°37′01″ W; to the point of beginning.

Designated altitudes. Surface to 11,000 feet MSL.

Time of designation. 1800-0600 local time, Monday-Saturday; other times by NOTAM.

Controlling agency. FAA, Houston ARTCC.

Using agency. U.S. Army, Commanding General, III Armored Corps and Fort Cavazos, Fort Cavazos, TX.

R-6302C Fort Cavazos, TX [New]

Boundaries. Beginning at lat. 31°09′01″ N, long. 97°45′01″ W; to lat. 31°09′01″ N, long. 97°55′01″ W; to lat. 31°16′01″ N, long. 97°54′01″ W; to lat. 31°19′01″ N, long. 97°51′01″ W; to lat. 31°18′25″ N, long. 97°48′48″ W; to lat. 31°14′15″ N, long. 97°50′33″ W; to lat. 31°10′01″ N, long. 97°48′01″ W; to the point of the beginning.

Designated altitudes. Surface to, but not including 30,000 feet MSL.

Time of designation. 0700-1900 local time, Monday-Friday; other times by NOTAM.

Controlling agency. FAA, Houston ARTCC.

Using agency. U.S. Army, Commanding General, III Armored Corps and Fort Cavazos, Fort Cavazos, TX.

R-6302D Fort Cavazos, TX [New]

Boundaries. Beginning at lat. 31°18′25″ N, long. 97°48′48″ W; to lat. 31°19′01″ N, long. 97°51′01″ W; to lat. 31°24′01″ N, long. 97°48′01″ W; to lat. 31°23′01″ N, long. 97°43′01″ W; to lat. 31°22′08″ N, long. 97°41′56″ W; to lat. 31°22′09″ N, long. 97°43′27″ W; to lat. 31°20′00″ N, long. 97°45′23″ W; to lat. 31°18′23″ N, long. 97°45′43″ W; to the point of the beginning.

Designated altitudes. Surface to, but not including 30,000 feet MSL.

Time of designation. 0700-1900 local time, Monday-Friday; other times by NOTAM.

Controlling agency. FAA, Houston ARTCC.

Using agency. U.S. Army, Commanding General, III Armored Corps and Fort Cavazos, Fort Cavazos, TX.

R-6302E Fort Cavazos, TX [New]

Boundaries. Beginning at lat. 31°22′08″ N, long. 97°41′56″ W; to lat. 31°21′01″ N, long. 97°41′01″ W; to lat. 31°20′01″ N, long. 97°41′01″ W; to lat. 31°14′01″ N, long. 97°33′01″ W; to lat. 31°08′01″ N, long. 97°39′01″ W; to lat. 31°10′01″ N, long. 97°41′01″ W; to lat. 31°09′01″ N, long. 97°43′31″ W; to lat. 31°09′01″ N, long. 97°45′01″ W; to lat. 31°10′01″ N, long. 97°48′01″ W; to lat. 31°14′15″ N, long. 97°50′33″ W; to lat. 31°18′25″ N, long. 97°48′48″ W; to lat. 31°18′23″ N, long. 97°45′43″ W; to lat. 31°20′00″ N, long. 97°45′23″ W; to lat. 31°22′09″ N, long. 97°43′27″ W; to the point of beginning.

Designated altitudes. 30,000 feet MSL to 45,000 feet MSL.

Times of designation. By NOTAM 48 hours in advance.

Controlling agency. FAA, Houston ARTCC.

Using agency. U.S. Army, Commanding General, III Armored Corps and Fort Cavazos, Fort Cavazos, TX.

* * * * *

Issued in Washington, DC, on September 19, 2023.
Karen L. Chiodini,
Acting Manager, Rules and Regulations Group.

[FR Doc. 2023-20617 Filed 9-22-23; 8:45 am]

BILLING CODE 4910-13-P